DEPARTMENT OF ENERGY

Federal Energy Regulatory Commission

[Docket No. EG02-170-000, et al.]

Bonnet Carre Power, L.L.C., et al.; Electric Rate and Corporate Regulation Filings

July 23, 2002.

The following filings have been made with the Commission. The filings are listed in ascending order within each docket classification.

1. Bonnet Carre Power, L.L.C.

[Docket No. EG02-170-000]

Take notice that on July 19, 2002, Bonnet Carre Power, L.L.C. (Applicant), a Delaware limited liability company, with its principal office located at 101 Ash Street, San Diego, California 92101, filed with the Federal Energy Regulatory Commission (Commission) an Application for Determination of Exempt Wholesale Generator Status pursuant to Part 365 of the Commission's regulations and Section 32 of the Public Utility Holding Company Act of 1935, as amended. Applicant states it will be engaged directly and exclusively in operating an approximately 1200 MW natural gas-fueled electric generating facility (the Facility) located in St. John the Baptist Parish, four miles south of the City of LaPlace, Louisiana, and selling energy at wholesale from the Facility.

Comment Date: August 13, 2002.

2. PacifiCorp

[Docket No. ER02-2333-000]

Take notice that on July 16, 2002, PacifiCorp tendered for filing with the Federal Energy Regulatory Commission (Commission) the First Amendment and Restated Long-Term Power Sales Agreement between PacifiCorp and Southern California Edison Company, (Agreement). The Agreement amends PacifiCorp's FERC Electric Rate Schedule No. 248 (as supplemented). PacifiCorp requests an effective date of January 1, 2002, as well as waiver for good cause of the Commission's prior Notice and Filing Requirements.

Copies of the filing were served upon Southern California Edison Company and the state commissions of California, Montana, Oregon, Washington, Utah, and Idaho.

Comment Date: August 6, 2002.

3. Virginia Electric and Power Company

[Docket No. ER02-2334-000]

Take notice that on July 17, 2002, Virginia Electric and Power Company (Dominion Virginia Power or the Company) tendered for filing the following Service Agreement for Firm Point-to-Point Transmission Service by Virginia Electric and Power Company to Dominion Energy Marketing, Inc. designated as Service Agreement No. 368 under the Company's FERC Electric Tariff, Second Revised Volume No. 5; and Service Agreement for Non-Firm Point-to-Point Transmission Service by Virginia Electric and Power Company to Dominion Energy Marketing, Inc. designated as Service Agreement No. 369 under the Company's FERC Electric Tariff, Second Revised Volume No. 5.

The foregoing Service Agreements are tendered for filing under the Open Access Transmission Tariff to Eligible Purchasers effective June 7, 2000. Under the tendered Service Agreements, Dominion Virginia Power will provide point-to-point service to Dominion Energy Marketing, Inc. under the rates, terms and conditions of the Open Access Transmission Tariff. Dominion Virginia Power requests an effective date of June 18, 2002, as requested by the customer.

Copies of the filing were served upon Dominion Energy Marketing, Inc., the Virginia State Corporation Commission, and the North Carolina Utilities Commission. Comment Date: August 7, 2002.

4. PacifiCorp

[Docket No. ER02-2335-000]

Take notice that on July 18, 2002, PacifiCorp, tendered for filing in accordance with 18 CFR 35 of the Federal Energy Regulatory Commission's Rules and Regulations, an Amended and Restated Long Term Power Sales Agreement with Utah Municipal Power Agency.

Copies of this filing were supplied to the Washington Utilities and Transportation Commission and the Public Utility Commission of Oregon. Comment Date: August 8, 2002.

5. Ameren Energy, Inc. on behalf of Union Electric Company d/b/a AmerenUE and Ameren Energy Generating Company

[Docket No. ER02-2336-000]

Take notice that on July 19, 2002, Union Electric Company d/b/a/ AmerenUE (AmerenUE), pursuant to Part 35 of the regulations of the Federal Energy Regulatory Commission (Commission), submitted for filing an executed interchange Agreement with Associated Electric Cooperative. UE seeks Commission acceptance of this agreement effective July 19, 2002.

Copies of this filing were served on the Missouri Public Service commission and the counter party.

Comment Date: August 9, 2002.

6. Energy Investments Management, Inc.

[Docket No. ER02-2338-000]

Take notice that on July 18, 2002, Energy Investments Management, Inc. (EIM) petitioned the Federal Energy Regulatory Commission (Commission) for acceptance of EIM Rate Schedule FERC No. 1; the granting of certain blanket approvals, including the authority to sell electricity at market-based rates; and the waiver of certain Commission regulations.

EIM intends to engage in wholesale electric power and energy purchases and sales as a marketer. EIM is not in the business of generating or transmitting electric power.

Comment Date: August 8, 2002.

7. Citadel Energy Products LLC

[Docket No. ER02-2339-000]

Take notice that on July 18, 2002, Citadel Energy Products LLC submitted for filing, pursuant to section 205 of the Federal Power Act, and part 35 of the Commission's regulations, an application for authorization to make sales, as a power marketer, of capacity, energy, and certain Ancillary Services at market-based rates; to reassign transmission capacity; and to resell firm transmission rights (FTRs).

Comment Date: August 8, 2002.

8. Allegheny Energy Service Corporation on behalf of Allegheny Energy Supply Company, LLC

[Docket No. ER02-2340-000]

Take notice that on July 18, 2002, Allegheny Energy Service Corporation on behalf of Allegheny Energy Supply Company, LLC (Allegheny Energy Supply) filed Service Agreement No. 156 to add one (1) new Customer to the Market Rate Tariff under which Allegheny Energy Supply offers generation services. Allegheny Energy Supply requests a waiver of notice requirements for an effective date of June 24, 2002 for Indianapolis Power & Light Company.

Copies of the filing have been provided to all parties of record.

Comment Date: August 8, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-19196 Filed 7-29-02; 8:45 am]

BILLING CODE 6717-01-P